DEPARTMENT OF ENERGY

Federal Energy Regulatory Commission

Combined Notice of Filings #1

Take notice that the Commission received the following electric rate filings:

Docket Numbers: ER13-49-000.

Applicants: Valley Electric Association, Inc.

Description: eTariff filing per 35.19a(b): Refund Report for Valley Electric to be effective N/A.

Filed Date: 11/21/14.

Accession Number: 20141121-5107.

Comments Due: 5 p.m. ET 12/12/14.

Docket Numbers: ER13-79-006.

Applicants: Public Service Company of New Mexico.

Description: Compliance filing per 35: Supplement to Order No. 1000 OATT Regional Compliance Filing to be effective 1/1/2015.

Filed Date: 11/21/14.

Accession Number: 20141121-5061.

Comments Due: 5 p.m. ET 12/12/14.

Docket Numbers: ER14-2868-001.

Applicants: Portland General Electric Company.

Description: Tariff Amendment per 35.17(b): 7th Amend Boardman Agreement Deficiency Response to be effective 11/1/2014.

Filed Date: 11/21/14.

Accession Number: 20141121-5101.

Comments Due: 5 p.m. ET 12/12/14.

Docket Numbers: ER15-124-001.

Applicants: Tucson Electric Power Company.

Description: Tariff Amendment per 35.17(b): Amendment to Filing to be effective 9/17/2014.

Filed Date: 11/21/14.

Accession Number: 20141121-5085.

Comments Due: 5 p.m. ET 12/12/14.

Docket Numbers: ER15-190-001.

Applicants: Duke Energy Renewable Services, LLC.

Description: Tariff Amendment per 35.17(b): Amendment to MBR Application to be effective 12/1/2014.

Filed Date: 11/21/14.

Accession Number: 20141121-5081.

Comments Due: 5 p.m. ET 12/12/14.

Docket Numbers: ER15-439-000; ER15-437-000; ER15-436-000; ER15-438-000; ER15-440-000.

Applicants: J.P. Morgan Ventures Energy Corporation.

Description: Supplement to November 18, 2014 J.P. Morgan Ventures Energy Corporation, et. al. tariff filings.

Filed Date: 11/20/14.

Accession Number: 20141120-5209.

Comments Due: 5 p.m. ET 12/11/14.

Docket Numbers: ER15-456-000.

Applicants: Florida Power & Light Company.

Description: Compliance filing per 35: Florida Power & Light Company's Order No. 676-H Compliance Filing to be effective 2/1/2015.

Filed Date: 11/20/14.

Accession Number: 20141120-5190.

Comments Due: 5 p.m. ET 12/11/14.

Docket Numbers: ER15-457-000.

Applicants: PJM Interconnection, L.L.C.

Description: § 205(d) rate filing per 35.13(a)(2)(iii): Service Agreement No. 4038; Queue No. Z2-001 to be effective 11/10/2014.

Filed Date: 11/20/14.

Accession Number: 20141120-5191.

Comments Due: 5 p.m. ET 12/11/14.

Docket Numbers: ER15-458-000.

Applicants: Tampa Electric Company.

Description: Compliance filing per 35: Compliance Filing under Order 676-H to be effective 2/2/2015.

Filed Date: 11/21/14.

Accession Number: 20141121-5054.

Comments Due: 5 p.m. ET 12/12/14.

Take notice that the Commission received the following electric securities filings:

Docket Numbers: ES15-5-000.

Applicants: Kingfisher Transmission, LLC, Kingfisher Wind, LLC.

Description: Application for authorization to issue securities and assume obligations and liabilities under Section 204 of the Federal Power Act of Kingfisher Transmission, LLC, et. al.

Filed Date: 11/20/14.

Accession Number: 20141120-5214.

Comments Due: 5 p.m. ET 12/11/14.

Take notice that the Commission received the following qualifying facility filings:

Docket Numbers: QF14-742-000.

Applicants: Telephonics.

Description: Form 556 of Telephonics.

Filed Date: 8/28/14.

Accession Number: 20140828-5260.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 21, 2014.
Nathaniel J. Davis, Sr.,
Deputy Secretary.

[FR Doc. 2014-28251 Filed 12-1-14; 8:45 am]

BILLING CODE 6717-01-P